DEPARTMENT OF HEALTH AND HUMAN SERVICES

Centers for Medicare & Medicaid Services

[Document Identifier: CMS-10309, CMS-10475, CMS-R-5 and CMS-R-234]

Agency Information Collection Activities; Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by July 8, 2013.

ADDRESSES: When commenting on the proposed information collections, please reference the document identifier or OMB control number. To be assured consideration, comments and recommendations must be received by the OMB desk officer via one of the following transmissions:

OMB, Office of Information and Regulatory Affairs,

Attention: CMS Desk Officer,

Fax Number: (202) 395-6974 OR

Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326

SUPPLEMENTARY INFORMATION: Under the Paperwork Reduction Act of 1995 (PRA) (44 U.S.C. 3501-3520), federal Agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection. Title of Information Collection: Grandfathering Provisions of the Medicare DMEPOS Competitive Bidding Program. Use: Section 1847(a)(4) of the Social Security Act (the Act) requires (in the case of covered durable medical equipment (DME) items for which payment is made on a rental basis under section 1834(a) of the Act and in the case of oxygen for which payment is made under section 1834(a)(5) of the Act) that the Secretary will establish a grandfathering process by which covered items and supplies that were rented by suppliers before the implementation of a competitive bidding program may be continued.

We established the grandfathering process in the April 10, 2007 final rule for competitive bidding (72 FR 17992) for rented DME and oxygen and oxygen equipment when these items are included under the Medicare DMEPOS Competitive Bidding Program. This process only applies to suppliers that rented DME and oxygen and oxygen equipment to beneficiaries who maintain a permanent residence in a competitive bidding area (CBA) before the implementation of the competitive bidding program.

The competitive bidding program will require some beneficiaries to change their suppliers. To avoid a beneficiary being without medically necessary equipment we believe it is necessary to establish this notification process. The notification to the beneficiaries is a beneficiary protection that will keep them informed of whether or not they can continue to rent an item from their current supplier or go to a contract supplier. The notification will also provide information to the beneficiary as to how to find a contract supplier in their CBA. In the event that the beneficiary must go to a contract supplier, the notification will identify the procedure for the pick-up of their current equipment and delivery of new equipment. Form Number: CMS-10309 (OCN: 0938-1079). Frequency: Once; Affected Public: Private sector (business or other for-profits); Number of Respondents: 2,697; Total Annual Responses: 536,667; Total Annual Hours: 65. (For policy questions regarding this collection contact Michael Keane at 410-786-4495. For all other issues call 410-786-1326.)

2. Type of Information Collection Request: New collection (request for a new OMB control number). Title of Information Collection: Hospice Experience of Care Survey; Use: This survey supports the National Quality Strategy that was called for under the Affordable Care Act to create national aims and priorities to guide local, state, and national efforts to improve the quality of health care. This strategy has established six priorities that support a three-part aim focusing on better care, better health, and lower costs through improvement. Because the hospice survey focuses on experiences of care, implementation of the survey supports the following national priorities for improving care: Engaging patients and families in care and promoting effective communication and coordination. In addition, upon national implementation and public reporting of hospice survey results, the survey will provide data on experiences with hospice care that enable consumers to make meaningful comparisons between hospices across the nation. Form Number: CMS-10475 (OCN: 0938-New); Frequency: Once; Affected Public: Individuals and households; Number of Respondents: 730; Total Annual Responses: 730. Total Annual Hours: 185. (For policy questions regarding this collection contact Lori Teichman at 410-786-6684. For all other issues call 410-786-1326.)

3. Type of Information Collection Request: Reinstatement without change of a previously approved collection. Title of Information Collection: Physician Certification/Recertification in Skilled Nursing Facilities (SNFs) Manual Instructions and Supporting Regulation in 42 CFR 424.20; Use: The Medicare program requires, as a condition for Medicare Part A payment for post-hospital SNF services that a physician must certify and periodically recertify that a beneficiary requires a SNF level of care. The physician certification and recertification is intended to ensure that the beneficiary's need for services has been established and then reviewed and updated at appropriate intervals. The documentation is a condition for Medicare Part A payment for post-hospital SNF care. Form Number: CMS-R-5 (OCN: 0938-0454). Frequency: Occasionally; Affected Public: Private sector (business or other for-profit and not-for-profit institutions); Number of Respondents: 1,796,502; Total Annual Responses: 1,796,502; Total Annual Hours: 559,713. (For policy questions regarding this collection contact Kia Sidbury at 410-786-7816. For all other issues call 410-786-1326.)

4. Type of Information Collection Request: Extension without change of a currently approved collection; Title of Information Collection: Subpart D—Private Contracts and Supporting Regulations Contained in 42 CFR 405.410, 405.430, 405.435, 405.440, 405.445, and 405.455. Use: Section 4507 of Balancing Budget Act (BBA) 1997 amended section 1802 of the Social Security Act to permit certain physicians and practitioners to opt-out of Medicare and to provide (through private contracts) services that would otherwise be covered by Medicare. Under such contracts the mandatory claims submission and limiting charge rules of section 1848(g) of the Act would not apply. Subpart D and the supporting regulations counters the effect of certain provisions of Medicare law that, absent section 4507 of BBA 1997, preclude physicians and practitioners from contracting privately with Medicare beneficiaries to pay without regard to Medicare limits. Physicians and/or practitioners use these information collection requirements to comply with the law. In addition, Medicare carriers use this information to determine if benefits should be paid or continued. Form Number: CMS-R-234 (OCN 0938-0730); Frequency: Biennially; Affected Public: Private sector (business or other for-profits); Number of Respondents: 26,820. Total Annual Responses: 26,820. Total Annual Hours: 7,197. (For policy questions regarding this collection contact Fred Grabau at 410-786-0206. For all other issues call 410-786-1326.)

Dated: June 4, 2013.
Martique Jones,
Deputy Director, Regulations Development Group, Office of Strategic Operations and Regulatory Affairs.

[FR Doc. 2013-13577 Filed 6-6-13; 8:45 am]

BILLING CODE 4120-01-P